FEDERAL COMMUNICATIONS COMMISSION

47 CFR Part 73

[DA 01-1669; MM Docket No. 01-151, RM-10167; MM Docket No. 01-152, RM-10168; MM Docket No. 01-153, RM-10169]

Radio Broadcasting Services; Eminence, MO; Encinal, TX; and Tilden, TX

AGENCY: Federal Communications Commission.

ACTION: Proposed rule.

SUMMARY: This document proposes three allotments. The Commission requests comments on a petition filed by Ozark Broadcasting, Inc., proposing the allotment of Channel 276C3 at Eminence, Missouri, as the community's first local aural transmission service. Channel 276C3 can be allotted to Eminence in compliance with the Commission's minimum distance separation requirements with a site restriction of 16.1 km (10 miles) northeast of Eminence. The coordinates for Channel 276C3 at Eminence are 37-16-07 North Latitude and 91-15-05 West Longitude. See Supplementary Information infra.

DATES: Comments must be filed on or before September 4, 2001, and reply comments on or before September 18, 2001.

ADDRESSES: Federal Communications Commission, Washington, DC 20554. In addition to filing comments with the FCC, interested parties should serve the petitioner, his counsel, or consultant, as follows: Lauren A. Colby, Esq., Counsel for Ozark Broadcasting, Inc., Law Offices of Lauren A. Colby, 10 E. Fourth Street, Post Office Box 113, Frederick, MD 21705-0113; and Charles Crawford, 4553 Bordeaux Avenue, Dallas, TX 75205.

FOR FURTHER INFORMATION CONTACT: Deborah A. Dupont, Mass Media Bureau (202)418-7072.

SUPPLEMENTARY INFORMATION: This is a synopsis of the Commission's Notice of Proposed Rule Making, MM Docket Nos 01-151, 01-152, and 01-153; adopted July 11, 2001, and released July 13, 2001. The full text of this Commission decision is available for inspection and copying during normal business hours in the FCC Reference Information Center (Room CY-A257), 445 12th Street, S.W., Washington, D.C. The complete text of this decision may also be purchased from the Commission's copy contractor, International Transcription Service, Inc., (202)857-3800, 1231 20th Street, N.W., Washington, D.C. 20036.

The Commission requests comment on a petition filed by Charles Crawford proposing the allotment of Channel 259A at Encinal, Texas, as the community's first local aural transmission service. Channel 259A can be allotted to Encinal in compliance with the Commission's minimum distance separation requirements with a site restriction of 10.9 km (6.8 miles) east of Encinal. The coordinates for Channel 259A at Encinal are 28-03-51 North Latitude and 99-14-47 West Longitude. The proposed allotment will require concurrence by Mexico because Encinal is located within 320 kilometers (199 miles) of the Mexican border. In compliance with § 1.52 of the Commission's rules, petitioner is requested to supply verification that the statements contained in the petition are correct to the best of petitioner's knowledge.

The Commission further requests comment on a petition filed by Charles Crawford proposing the allotment of Channel 245C3 at Tilden, Texas, as the community's first local aural transmission service. Channel 245C3 can be allotted to Tilden in compliance with the Commission's minimum distance separation requirements with a site restriction of 4.6 km (2.9 miles) northeast of Tilden. The coordinates for Channel 259A at Tilden are 28-29-13 North Latitude and 98-30-41 West Longitude. The proposed allotment will require concurrence by Mexico because Tilden is located within 320 kilometers (199 miles) of the Mexican border. In compliance with § 1.52 of the Commission's rules, petitioner is requested to supply verification that the statements contained in the petition are correct to the best of petitioner's knowledge.

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR part 73 as follows:

PART 73—RADIO BROADCAST SERVICES

1. The authority citation for Part 73 continues to read as follows:

Authority: 47 U.S.C. 154, 303, 334 and 336.

§ 73.202 [Amended]

2. Section 73.202(b), the Table of FM Allotments under Missouri, is amended by adding Eminence, Channel 276C3.

3. Section 73.202(b), the Table of FM Allotments under Texas, is amended by adding Encinal, Channel 259A.

4. Section 73.202(b), the Table of FM Allotments under Texas, is amended by adding Tilden, Channel 245C3.

Federal Communications Commission.
John A. Karousos,
Chief, Allocations Branch, Policy and Rules Division, Mass Media Bureau.

[FR Doc. 01-18347 Filed 7-23-01; 8:45 am]

BILLING CODE 6712-01-P